DEPARTMENT OF HEALTH AND HUMAN SERVICES

Centers for Medicare & Medicaid Services

42 CFR Parts 410 and 414

CMS-1476-CN2

RIN 0938-AL96

Medicare Program; Revisions to Payment Policies Under the Physician Fee Schedule for Calendar Year 2004: Correction

AGENCY: Centers for Medicare & Medicaid Services (CMS), HHS.

ACTION: Correction of final rule with comment period.

SUMMARY: This document corrects technical errors that appeared in the final rule with comment period published in the Federal Register on November 7, 2003 entitled “Revisions to Payment Policies Under the Physician Fee Schedule for Calendar Year 2004.”

EFFECTIVE DATE: This rule is effective January 1, 2004.

FOR FURTHER INFORMATION CONTACT: Diane Milstead (410) 786-3355.

SUPPLEMENTARY INFORMATION:

I. Background

In FR Doc. 03-27639 of November 7, 2003 (68 FR 63196), there were a number of technical errors that we are identifying and correcting in the Correction of Errors section below. Additionally, there are various revisions to Addendum F. While there were other errors in the November 7, 2003 rule, they were corrected by the interim final rule with comment period published in the January 7, 2004 Federal Register (69 FR 1084). (The provisions in this correction notice are effective as if they were included in the document published November 7, 2003.)

Discussion of Addendum F

In Addendum F, concerning the physician self-referral prohibition, we failed to include the new HCPCS code G0328 for fecal blood screening. Therefore, we are adding in alphanumeric order “G0328 Fecal blood scrn immunoassay” on page 63393, in the first column, in the list of Clinical Laboratory Services and also on page 63395, in the third column, under the heading “Preventive Screening Tests, Immunizations and Vaccines,” following the entry for HCPCS code G0202. Additionally, in Addendum F, we inadvertently included two HCPCS codes for prostate brachytherapy that were deleted from the HCPCS effective January 1, 2004. Consequently, we are removing HCPCS codes G0256 “Prostate brachy w palladium” and G0261 “Prostate brachytherapy w/rad” from the list of codes that appears on page 63395, in the second column, under the subheading that reads “INCLUDE the following CPT and HCPCS level 2 codes classified elsewhere”.

II. Correction of Errors

In FR Doc. 03-27639 of November 7, 2003 (68 FR 63196), make the following corrections—

1. On page 63204, column three, second full sentence revise as follows to reference two additional E/M codes that were inadvertently omitted. The sentence now reads, “This will allow time for the PEAC to reconsider these eight E/M codes, as well as the two nursing facility discharge management codes (CPT 99315 and 99316).”

2. On page 63218, in Table 3, the age references for codes G0321, G0322, G0325 and G0326 were labeled incorrectly. The correct references are as follows:

2 to 11 G0321

12 to 19 G0322

2 to 11 G0325

12 to 19 G0326

3. On page 63226, in the discussion contained in the last paragraph of the first column, which continues to the second column, we erroneously characterized the history and usage of CPT code 17310. Replace the first two sentences beginning with “Prior to 2003, this code . . . and ending with “. . . during a particular stage of Mohs surgery.” with the following: “Prior to 2003, this code was reported as each additional specimen, after the first five specimens, per stage of Mohs surgery. The reason for the 2003 CPT clarification was due to confusion caused by an inaccurate description of the code published in 1992. The description led some carriers to erroneously deny payment for CPT code 17310.”

4. On page 63230, column two, last sentence of second paragraph, add “work RVUs” after 0.00 so sentence reads “We are also accepting the RUC recommendation of 0.00 work RVUs for CPT code 93788.”

5. On page 63231, second column, in the response to comments about inappropriate valuation of radiopharmaceutical G-codes, G0273 and G0274, revise the last sentence of the response to read as follows “CPT codes 79403, Radiopharmaceutical therapy, radiolabeled monoclonal antibody by intravenous infusion, and 78802, Radiopharmaceutical localization of tumor or distribution of radiopharmaceutical agent(s); whole body single day imaging or 78804, Radiopharmaceutical localization of tumor or distribution of radiopharmaceutical agent(s); whole body, requiring two or more days imaging will be used to report these services.”

6. On page 63234, in Table 6, we incorrectly state that we agreed with the RUC recommendation to carrier price CPT code 47133. This service is included in payment to the organ procurement facility and is not paid under the physician fee schedule. In addition, the table erroneously states that we disagree with the RUC recommendations for CPT codes 61863 and 61867. The table is corrected to read as follows:

¹CPT code | Mod | Description | RUC recommendation | HCPAC recommendation | CMS decision | 2004 work RVU
47133 |  | Removal of donor liver | (²) |  | Disagree | (³)
61863 |  | Implant neuroelectrode | 19.00 |  | Agree | 19.00
61867 |  | Implant neuroelectrode | 31.34 |  | Agree | 31.34
¹ All CPT codes copyright 2003 American Medical Association.
² Carrier.
³ “X” status.

7. On page 63236, second column, the discussion concerning CPT codes 61863 and 61867 is deleted, since we agreed with the RUC recommendation for these services.

8. On page 63238, column 1, in the first and second sentences of the first paragraph under the subheading entitled, “C. Revisions Effective for 2004,” the references to “Tables 7 and 8” are corrected to read “Tables 8 and 9.”

9. On page 63238, column 2 is amended as follows:

a. In Table 8, under the heading “Preventive Screening Tests, Immunizations and Vaccines,” the following phrase is added as the last entry: “G0328 Fecal blood scrn immunoassay”.

b. In Table 9, immediately under the heading “Radiation Therapy Services and Supplies,” the following phrases are added in alphanumeric order:

G0256 Prostate brachy w palladium

G0261 Prostate brachytherapy w/rad

10. On page 63238, column 3, the third sentence of the third paragraph is revised to read as follows: “Table 8 also reflects the addition of a screening mammography code (CPT 76083), a flu vaccine code (CPT 90655), and a fecal blood screening code (HCPCS G0328) to the list that identifies preventive screening tests, immunizations and vaccines that may qualify for the exception described in § 411.355(h) for these items and services.”

11. On page 63238, column 3, in the first sentence of the fourth paragraph, the reference to “Table 8” is corrected to read “Table 9” and in the last line of the fifth paragraph, the reference to “VI.B” is corrected to read “V.B”.

12. On page 63261, third column, first sentence, first paragraph under “Addendum A—Explanation and Use of Addendum B,” replace “2003” with “2004”. The sentence now reads “The addenda on the following pages provide various data pertaining to the Medicare physician fee schedule for physicians' services furnished in 2004”. In the heading of the next section, replace references to “2003” with “2004”. The heading now reads “Addendum B—2004 Relative Value Units and Related Information Used in Determining Medicare payments for 2004”.

13. On page 63393, in Addendum F, in the first column, in the list of Clinical Laboratory Services, the following HCPCS code and its descriptor are added in alphanumeric order:

G0328 Fecal blood scrn immunoassay

14. On page 63395, in addendum F, in the third column, under the heading “Preventive Screening Tests, Immunizations and Vaccines,” the following HCPCS code and its descriptor are added in alphanumeric order:

G0328 Fecal blood scrn immunoassay

15. On page 63395, in Addendum F, in the second column, under the subheading, “INCLUDE the following CPT and HCPCS level 2 codes classified elsewhere,” the following CPT codes and their descriptors are removed:

G0256 Prostate brachy w palladium

G0261 Prostate brachytherapy w/rad

III. Waiver of Proposed Rulemaking

We ordinarily publish a notice of proposed rulemaking in the Federal Register to provide a period for public comment before the provisions of a notice take effect. We can waive this procedure, however, if we find good cause that notice and comment procedure is impracticable, unnecessary, or contrary to the public interest and incorporate a statement of the finding and the reasons for it into the notice issued.

In this case, we believe that it is unnecessary to subject the corrections identified above to public comment. These errors were the result of inadvertent omissions and typographical errors in Addendum F. Our corrections of the pricing errors and addition of pricing information in the addendum does not substantively change any policy nor affect the payment methodology established under the new legislation. For this reason, we find it unnecessary to provide the opportunity for comment on the technical corrections made in this notice. Therefore, we find good cause to waive notice and comment procedures.

(Catalog of Federal Domestic Assistance Program No. 93.774, Medicare—Supplementary Medical Insurance Program)

Dated: March 19, 2004.
Ann C. Agnew,
Executive Secretary to the Department.

[FR Doc. 04-6832 Filed 3-25-04; 8:45 am]

BILLING CODE 4120-01-P